DEPARTMENT OF JUSTICE

[OMB Number 1110-0077]

Agency Information Collection Activities; Proposed eCollection eComments Requested; Revision of an Approved Collection

AGENCY: Federal Bureau of Investigation, Criminal Justice Information Services Division, Department of Justice.

ACTION: 30 Day notice.

SUMMARY: The Department of Justice, Federal Bureau of Investigation (FBI), Criminal Justice Information Services Division, is submitting the following information collection request to the Office of Management and Budget (OMB) for review and approval in accordance with the Paperwork Reduction Act of 1995.

DATES: The Department of Justice encourages public comment and will accept input until April 13, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

Evaluate whether the proposed collection of information is necessary for the proper performance of the functions of the Federal Bureau of Investigation, Criminal Justice Information Services Division, including whether the information will have practical utility;

Evaluate the accuracy of the agency's estimate of the burden of the proposed collection of information, including the validity of the methodology and assumptions used;

Evaluate whether and if so how the quality, utility, and clarity of the information to be collected can be enhanced; and

Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: FIX NICS Act State Implementation Plan Survey

3. The agency form number, if any, and the applicable component of the Department sponsoring the collection: There is no agency form number for this collection. The applicable component within the Department of Justice is the Federal Bureau of Investigation, Criminal Justice Services Division.

4. Affected public who will be asked or required to respond, as well as a brief abstract: Primary: State, local, federal and tribal law enforcement agencies. This collection is needed for the reporting or making available of appropriate records to the National Instant Criminal Background Check System (NICS) established under section 103 of the Brady Handgun Violence Prevention Act. Acceptable data is stored as part of the NICS of the FBI.

5. An estimate of the total number of respondents and the amount of time estimated for an average respondent to respond: It is estimated 56 respondents will complete each form within approximately 2,400 minutes.

6. An estimate of the total public burden (in hours) associated with the collection: There are an estimate 2, 240 total annual burden hours anticipated for the collection.

If additional information is required contact: Melody Braswell, Department Clearance Officer, United States Department of Justice, Justice Management Division, Policy and Planning Staff, Two Constitution Square, 145 N Street NE, 3E.405A, Washington, DC 20530.

Dated: March 9, 2022.
Melody Braswell,
Department Clearance Officer for PRA, U.S. Department of Justice.

[FR Doc. 2022-05312 Filed 3-11-22; 8:45 am]

BILLING CODE 4410-02-P